DEPARTMENT OF COMMERCE

International Trade Administration

[A-570-194]

Active Anode Material From the People's Republic of China: Final Affirmative Determination of Sales at Less Than Fair Value

AGENCY: Enforcement and Compliance, International Trade Administration, Department of Commerce.

SUMMARY: The U.S. Department of Commerce (Commerce) determines that active anode material from the People's Republic of China (China) is being, or likely to be, sold in the United States at less than fair value (LTFV). The period of investigation (POI) is April 1, 2024, through September 30, 2024.

DATES: Applicable February 17, 2026.

FOR FURTHER INFORMATION CONTACT: Hermes Pinilla or Jacob Keller, AD/CVD Operations, Office I, U.S. Department of Commerce, 1401 Constitution Avenue NW, Washington, DC 20230; telephone: (202) 482-3477 and (202) 482-4849, respectively.

SUPPLEMENTARY INFORMATION:

Background

On July 22, 2025, Commerce published the Preliminary Determination in the Federal Register, in which we also postponed the final determination until December 4, 2025.¹ We invited interested parties to comment on the Preliminary Determination.

¹ See Active Anode Material from the People's Republic of China: Preliminary Affirmative Determination of Sales at Less Than Fair Value, Postponement of Final Determination and Extension of Provisional Measures from the People's Republic of China, 90 FR 34423 (July 22, 2025) (Preliminary Determination), and accompanying Preliminary Decision Memorandum (PDM).

Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Accordingly, the deadline for this final determination is now February 10, 2025.

² See Memorandum, “Deadlines Affected by the Shutdown of the Federal Government,” dated November 14, 2025.

³ See Memorandum, “Tolling of all Case Deadlines,” dated November 24, 2025.

A summary of the events that occurred since the Preliminary Determination, as well as a full discussion of the issues raised by parties for this final determination, may be found in the Issues and Decision Memorandum.⁴ The Issues and Decision Memorandum is a public document and is on file electronically via ACCESS. ACCESS is available to registered users at https://access.trade.gov. In addition, a complete version of the Issues and Decision Memorandum can be accessed directly at https://access.trade.gov/public/FRNoticesListLayout.aspx.

⁴ See Memorandum, “Issues and Decision Memorandum for the Final Affirmative Determination in the Less-Than-Fair-Value Investigation of Active Anode Material from the People's Republic of China,” dated concurrently with, and hereby adopted by, this notice (Issues and Decision Memorandum).

Scope of the Investigation

The product covered by this investigation is active anode material from China. For a complete description of the scope of this investigation, see Appendix I.

Scope Comments

In the Preliminary Scope Memorandum, we set aside a period of time for parties to raise issues regarding product coverage (i.e., scope) in scope-specific case briefs or other written comments.⁵ We received scope case and rebuttal briefs from multiple interested parties. For a summary of the product coverage comments and rebuttal responses submitted to the record for this final determination, and accompanying discussion and analysis of all comments timely received, see the Final Scope Memorandum.⁶ In the Final Scope Memorandum, Commerce determined that it is modifying the scope language as it appeared in the Initiation Notice.⁷ See Appendix I.

⁵ See Memorandum, “Less-Than-Fair Value and Countervailing Duty Investigations of Active Anode Material from the People's Republic of China: Preliminary Scope Determination,” dated July 16, 2025 (Preliminary Scope Memorandum).

⁶ See Memorandum, “Less-Than-Fair Value and Countervailing Duty Investigations of Active Anode Material from the People's Republic of China: Final Scope Issues and Decision Memorandum,” dated concurrently with and hereby adopted by this notice (Final Scope Memorandum).

⁷ See Active Anode Material from the People's Republic of China: Initiation of Less-Than-Fair Value Investigation, 90 FR 3792 (January 15, 2025) (Initiation Notice).

Verification

Because the mandatory respondents in this investigation are not eligible for a separate rate, Commerce did not conduct verification.

Analysis of Comments Received

The issues raised in the case and rebuttal briefs submitted by interested parties in this investigation are addressed in the Issues and Decision Memorandum. A list of the issues addressed in the Issues and Decision Memorandum is attached to this notice as Appendix II.

Changes Since the Preliminary Determination

Based on a review of the record and comments received from interested parties regarding the Preliminary Determination, Commerce made changes to its preliminary separate rate determination with respect to multiple companies. Because we have excluded certain products containing active anode material from the scope of these investigations, certain companies are not eligible for a separate rate because they did not make any shipments of subject merchandise during the POI.⁸

⁸ See Issues and Decision Memorandum at 4-5.

China-Wide Entity and Use of Adverse Facts Available

Consistent with the Preliminary Determination,⁹ Commerce continues to find that, pursuant to sections 776(a) and (b) of the Tariff Act of 1930, as amended (the Act), the use of facts otherwise available, with adverse inferences, is warranted in determining the dumping rate for the China-wide entity.¹⁰ For this final determination, there is no new information on the record that would cause us to reconsider our preliminary decision.¹¹ Therefore, as facts available with adverse inference, we assigned the final rate of 102.72 percent, which is the highest calculated Petition margin to the China-wide entity.¹²

⁹ See Preliminary Determination PDM at 14-17.

¹⁰ See sections 776(a)(1) and (2)(A)-(C) and (b) of the Act.

¹¹ See Issues and Decision Memorandum at Comment 17.

¹² See Preliminary Determination PDM at 13-17.

Separate Rate Eligibility

We received comments on our preliminary separate rate determination.¹³ Based on our analysis of the comments received, we updated our preliminary determination with respect to separate rate eligibility. As noted above, because we excluded certain products containing active anode material from the scope of these investigations, we determined that certain companies are not eligible for a separate rate because they did not make any shipments of subject merchandise during the POI.¹⁴

¹³ See Issues and Decision Memorandum at 1-2; see also Preliminary Determination PDM at 6-9.

¹⁴ Id. at 4-5.

Combination Rates

Consistent with the Preliminary Determination and Policy Bulletin 05.1,¹⁵ Commerce assigned a producer/exporter combination rate for the companies eligible for separate rates.¹⁶

¹⁵ See Enforcement and Compliance's Policy Bulletin No. 05.1, regarding, “Separate-Rates Practice and Application of Combination Rates in Antidumping Investigations involving Non-Market Economy Countries,” (April 5, 2005) (Policy Bulletin 05.1), available on Commerce's website at https://access.trade.gov/Resources/policy/bull05-1.pdf.

¹⁶ See Preliminary Determination, 90 FR at 34424.

Final Determination

Commerce determines that the following estimated weighted-average dumping margins exist for the period, April 1, 2024, through September 30, 2024:

Exporter | Producer | Weighted- average dumping margin (percent) | Cash deposit rate (adjusted for subsidy offsets) (percent)
Tesla Manufacturing Brandenburg SE | BTR New Material Group Co., Ltd | 93.50 | 93.50
Panasonic Global Procurement (China) Co., Ltd | BTR New Material Group Co., Ltd | 93.50 | 93.50
Panasonic Global Procurement (China) Co., Ltd | BTR New Material Group Sales Co. Ltd | 93.50 | 93.50
Panasonic Global Procurement (China) Co., Ltd | BTR (Jiangsu) New Energy Material | 93.50 | 93.50
Panasonic Global Procurement (China) Co., Ltd | Huzhou Kaijin New Energy Technology Corp., Ltd | 93.50 | 93.50
Hunan Zhongke Shinzoom Co., Ltd | Guizhou Zhongke Shinzoom Co., Ltd | 93.50 | 93.50
Jiangxi Zichen Technology Co., Ltd | Jiangxi Zichen Technology Co., Ltd | 93.50 | 93.50
Resonac Corporation | Henan Yicheng New Energy Co., Ltd | 93.50 | 93.50
Resonac Corporation | PetroChina Daqing Petrochemical Company | 93.50 | 93.50
Resonac Corporation | Qingdao Qingbei Carbon Products Co., Ltd | 93.50 | 93.50
Shanghai Shanshan New Material Co., Ltd | Inner Mongolia Shanshan Technology Co., Ltd | 93.50 | 93.50
Shanghai Shanshan New Material Co., Ltd | Sichuan Shanshan New Material Co., Ltd | 93.50 | 93.50
Shanghai Shanshan New Material Co., Ltd | Fujian Shanshan Technology Co., Ltd | 93.50 | 93.50
Shanghai Shanshan New Material Co., Ltd | Ningbo Shanshan New Material Technology Co., Ltd | 93.50 | 93.50
China-Wide Entity |  | * 102.72 | 102.72
* This rate is based on facts available with adverse inferences.

Disclosure

Because we have not modified our calculation of the margins in the Preliminary Determination, we are adopting the Preliminary Determination as the final determination. Consequently, there are no new calculations to disclose in accordance with 19 CFR 351.224(b) for the final determination of this investigation.

Suspension of Liquidation

In accordance with section 733(d)(1)(B) of the Act, we instructed U.S. Customs and Border Protection (CBP) to suspend liquidation of all entries of subject merchandise, as described in Appendix I of the of the Initiation Notice, which were entered, or withdrawn from warehouse, for consumption on or after July 22, 2025, the date of publication of the Preliminary Determination in the Federal Register. In accordance with section 733(d) of the Act, we instructed CBP to discontinue the suspension of liquidation of all entries of subject merchandise entered or withdrawn from warehouse, on or after January 18, 2026.

If the U.S. International Trade Commission (ITC) issues a final affirmative injury determination, we will issue an antidumping duty (AD) order, reinstate the suspension of liquidation under section 736(a) of the Act, and require a cash deposit of estimated antidumping duties for such entries of subject merchandise in the amounts indicated above, in accordance with section 736(a) of the Act. However, we will discontinue suspension of liquidation for any merchandise that was previously suspended based on the description of subject merchandise in the Initiation Notice that is no longer covered by the scope language in Appendix I of this notice, and instruct CBP to refund cash deposits, as appropriate. If the ITC determines that material injury, or threat of material injury, does not exist, then this proceeding will be terminated, the suspension of liquidation will be lifted, and all cash deposits for estimated antidumping duties will be refunded.

Pursuant to section 735(c)(1)(B)(ii) of the Act and 19 CFR 351.210(d), we will instruct CBP to require a cash deposit for such entries of merchandise equal to the amount by which normal value exceeds the U.S. price as follows: (1) the cash deposit rate for the exporter/producer combination listed in the table above will be the rate identified in the table, adjusted for subsidy offsets, if appropriate; (2) for all combinations of Chinese producers/exporters of subject merchandise that have not established eligibility for their own separate rates, the cash deposit rate will be the rate established for the China-wide entity, adjusted for subsidy offsets if appropriate; and (3) for all third country exporters of subject merchandise, the cash deposit rate will be the cash deposit rate applicable to the Chinese producer/exporter that supplied that third country exporter.

To determine the cash deposit rate, Commerce normally adjusts the estimated weighted-average dumping margin by the amount of domestic pass-through and export subsidies countervailed in a companion countervailing duty (CVD) proceeding, when CVD provisional measures are in effect. Accordingly, where Commerce has made a final affirmative determination for domestic pass-through or export subsides, Commerce offsets the estimated weighted-average dumping margin by the appropriate CVD rate. Commerce has continued to adjust the cash deposit rate for export subsidies found in the companion CVD investigation by the appropriate export subsidy rate, however, the suspension of liquidation of provisional measures in the companion CVD case has been discontinued.¹⁷ Therefore, we are not instructing CBP to collect cash deposits based on the adjusted estimated weighted-average dumping margin for export subsidies at this time.¹⁸ If the ITC makes a final affirmative determination of injury due to both dumping and subsidies, then the cash deposit rate will be revised effective on the date of publication of the ITC's final affirmative determination in the Federal Register to be the company-specific estimated weighted-average dumping margin adjusted for export subsidies.

¹⁷ See section 703(d) of the Act, which states that the provisional measures may not be in effect for more than four months, which in the companion CVD case is 120 days after the publication of the preliminary determination, or September 25, 2025 (i.e. the last day provisional measures are in effect).

¹⁸ See Active Anode Material from the People's Republic of China: Preliminary Affirmative Countervailing Duty Determination and Alignment of Final Determination with Final Antidumping Duty Determination, 90 FR 22465 (May 28, 2025); see also section 703(d) of the Act, which states that the provisional measures may not be in effect for more than four months, which in the companion CVD case is 120 days after the publication of the preliminary determination, or September 25, 2025.

ITC Notification

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports, or sales (or the likelihood of sales) for importation, of active anode material no later than 45 days after this final determination. If the ITC determines that material injury or threat of material injury does not exist, this proceeding will be terminated, all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Suspension of Liquidation” section.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination is issued and published in accordance with sections 735(d) and 777(i) of the Act, and 19 CFR 351.210(c).

Dated: February 10, 2026.
Christopher Abbott,
Deputy Assistant Secretary for Policy and Negotiations, performing the non-exclusive functions and duties of the Assistant Secretary for Enforcement and Compliance.

Appendix I

Scope of the Investigation

The merchandise covered by this investigation is active anode material, which is an anode grade graphite material with a graphite minimum purity content of 90 percent carbon by weight, whether containing synthetic graphite, natural graphite, or a blend of synthetic and natural graphite; with or without coating. Subject merchandise may be in the form of powder, dry, liquid, or block form and is covered irrespective of the form in which it enters. Subject merchandise typically has a maximum size of 80 microns when in powder form. Subject merchandise has an energy density of 330 milliamp hours per gram or greater and a degree of graphitization of 80 percent or greater, where graphitization refers to the extent of the graphite crystal structure.

Subject merchandise is covered regardless of whether it is mixed with silicon based active materials, e.g., silicon-oxide (SiOx), silicon-carbon (SiC), or silicon, or additives such as carbon black or carbon nanotubes. Subject merchandise is covered regardless of the combination of compounds that comprise the graphite material. Subject merchandise is covered regardless of whether it is imported independently, as part of a compound, or as a component of an anode slurry, or in a subassembly of a battery such as an electrode. Only the anode grade graphite material is covered when entered as part of a mixture with silicon based active materials, as part of a compound, or as a component of an anode slurry, or in a subassembly of a battery such as an electrode.

Subject merchandise does not include active anode material incorporated into imports of lithium-ion battery products (such as cells, modules, and packs), electric vehicles, hybrid vehicles, cell phones or battery energy storage systems.

Active anode material subject to this investigation may be classified under the Harmonized Tariff Schedule of the United States (HTSUS) subheadings 2504.10.5000, 3801.10.5010, and 3801.10.5090. Subject merchandise may also enter under HTSUS subheadings 2504.10.1000 and 3801.90.00. The HTSUS subheadings are provided for convenience and customs purposes only. The written description of the scope of this investigation is dispositive.

Appendix II

List of Topics Discussed in the Issues and Decision Memorandum

I. Summary

II. Background

III. Scope of the Investigation

IV. Changes Since the Preliminary Determination

V. Discussion of the Issues

Comment 1: CATL's Separate Rate Status

Comment 2: Whether to Verify CATL

Comment 3: CATL and the China-Wide Entity Rate

Comment 4: Whether the Calculated Separate Rate is Reasonable

Comment 5: Surrogate Country Selection

Comment 6: Whether CATL's Information is Adequate to Calculate a Margin

Comment 7: BTR's Separate Rate Status

Comment 8: BYD's Separate Rate Status

Comment 9: Whether BYD Made Shipments of Subject Merchandise

Comment 10: EVE Group's Separate Rate Status

Comment 11: Gotion's Separate Rate Status

Comment 12: Whether Gotion Made Shipments of Subject Merchandise

Comment 13: Hithium's Separate Rate Status

Comment 14: Sungrow's Separate Rate Status

Comment 15: Whether Sungrow Made Shipments of Subject Merchandise

Comment 16: Whether to Accept Subaru Inc.'s (Subaru) Submissions

Comment 17: Which Consumption Rate to Use Concerning a Certain Input

Comment 18: Whether to Correct Certain Errors in the Preliminary Margin Calculations

VI. Recommendation

[FR Doc. 2026-02998 Filed 2-13-26; 8:45 am]

BILLING CODE 3510-DS-P